DEPARTMENT OF THE INTERIOR

National Park Service

[N6603; NPS-WASO-NAGPRA-NPS0041337; PPWOCRADN0-PCU00RP14.R50000]

Notice of Intended Disposition: U.S. Department of Agriculture, Forest Service, National Forests in Mississippi, Jackson, MS

AGENCY: National Park Service, Interior.

ACTION: Notice.

SUMMARY: In accordance with the Native American Graves Protection and Repatriation Act (NAGPRA), the U.S. Department of Agriculture, Forest Service, National Forests in Mississippi intends to carry out the disposition of human remains and associated funerary objects removed from Federal or Tribal lands to the lineal descendants, Indian Tribe, or Native Hawaiian organization with priority for disposition in this notice.

DATES: Disposition of the human remains and associated funerary objects in this notice may occur on or after January 15, 2026. If no claim for disposition is received by December 16, 2026, the human remains and associated funerary objects in this notice will become unclaimed human remains and associated funerary objects.

ADDRESSES: Send written claims for disposition of the human remains and associated funerary objects in this notice to William MacNeill, Heritage Program Manager, National Forests in Mississippi, 6425 Lakeover Road, Suite A, Jackson, MS 39213, email william.l.macneill@usda.gov.

SUPPLEMENTARY INFORMATION: This notice is published as part of the National Park Service's administrative responsibilities under NAGPRA. The determinations in this notice are the sole responsibility of the National Forests in Mississippi, and additional information on the human remains and associated funerary objects in this notice, including the results of consultation, can be found in the related records. The National Park Service is not responsible for the identifications in this notice.

Abstract of Information Available

Based on the information available, human remains representing at least three individuals have been reasonably identified. The 10 boxes of associated funerary objects include ceramic sherds, lithic flakes, and projectile points. These were recovered from the Little Spanish Fort Site/22Sh522 on the Delta National Forest in Sharkey County, Mississippi. This is a large site with a mound, earthen ditch, and bank that has documented cultural components including the Archaic, Middle and Lake Woodland (Marksville, Baytown, and Deasonville), and Mississippian periods. The human remains and funerary objects were removed during a University of Southern Mississippi field school in 1993. The Little Spanish Fort is located within the historical and ancestral lands of the Choctaw Nation of Oklahoma, Mississippi Band of Choctaw Indians, and the Jena Band of Choctaw Indians.

Determinations

The National Forests in Mississippi has determined that:

• The human remains described in this notice represent the physical remains of three individuals of Native American ancestry.

• The 10 boxes of objects described in this notice are reasonably believed to have been placed intentionally with or near individual human remains at the time of death or later as part of the death rite or ceremony.

• The Mississippi Band of Choctaw Indians and The Choctaw Nation of Oklahoma have priority for disposition of the human remains and associated funerary objects described in this notice.

Claims for Disposition

Written claims for disposition of the human remains and associated funerary objects in this notice must be sent to the appropriate official identified in this notice under ADDRESSES. If no claim for disposition is received by December 16, 2026, the human remains and associated funerary objects in this notice will become unclaimed human remains and associated funerary objects. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains and associated funerary objects in this notice may occur on or after January 15, 2026. If competing claims for disposition are received, the National Forests in Mississippi must determine the most appropriate claimant prior to disposition. Requests for joint disposition of the human remains and associated funerary objects are considered a single request and not competing requests. The National Forests in Mississippi is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: November 17, 2025.
Melanie O'Brien,
Manager, National NAGPRA Program.

[FR Doc. 2025-22881 Filed 12-15-25; 8:45 am]

BILLING CODE 4312-52-P